DEPARTMENT OF COMMERCE

National Oceanic and Atmospheric Administration

Proposed Information Collection; Comment Request; Fishermen's Contingency Fund

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 16, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instruments and instructions should be directed to Paul Marx, Chief, Financial Services Division, NOAA National Marine Fisheries Service, (301) 427-8752 or paul.marx@noaa.gov.

SUPPLEMENTARY INFORMATION:

I. Abstract

This request is for extension of a currently approved information collection. United States (U.S.) commercial fishermen may file claims for compensation for losses of, or damage to, fishing gear or vessels, plus 50 percent of resulting economic losses, attributable to oil and gas activities on the U.S. Outer Continental Shelf. To obtain compensation, applicants must comply with requirements set forth in 50 CFR part 296.

The requirements include a “report” within 15 days of the date the vessel first returns to port after the casualty incident to gain a presumption of eligible causation, and an “application” within 90 days of when the applicant first became aware of the loss and/or damage.

The report is NOAA Form 88-166 and it requests identifying information such as: Respondent's name; address; social security number; and casualty location. The information in the report is usually completed by NOAA during a telephone call with the respondent.

The application is NOAA Form 88-164 and it requires the respondent to provide information on the property and economic losses and/or damages including type of damage; purchase date and price of lost/damaged gear; and income from recent fishing trips. It also includes an affidavit by which the applicant attests to the truthfulness of the claim.

II. Method of Collection

Respondents may telephone NOAA and provide the information for the report verbally or submit a paper or electronic report. Respondents have a choice of either electronic or paper forms for the application.

III. Data

OMB Control Number: 0648-0082.

Form Number: NOAA Forms 88-164, 88-166.

Type of Review: Extension of a currently approved collection.

Affected Public: Individuals or households; business or other for-profit organizations.

Estimated Number of Respondents: 20.

Estimated Time per Response:15 minutes for a report and 7 hours, 45 minutes for an application.

Estimated Total Annual Burden Hours: 160.

Estimated Total Annual Cost to Public: $500 in recordkeeping/filing costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 11, 2017.
Sarah Brabson,
NOAA PRA Clearance Officer.

[FR Doc. 2017-17296 Filed 8-15-17; 8:45 am]

BILLING CODE 3510-22-P